DEPARTMENT OF STATE

[Public Notice 7120]

Bureau of Political-Military Affairs: Directorate of Defense Trade Controls; Notifications to the Congress of Proposed Commercial Export Licenses

SUMMARY: Notice is hereby given that the Department of State has forwarded the attached Notifications of Proposed Export Licenses to the Congress on the dates indicated on the attachments pursuant to sections 36(c) and 36(d) and in compliance with section 36(f) of the Arms Export Control Act (22 U.S.C. 2776).

DATES: Effective Date: As shown on each of the 16 letters.

FOR FURTHER INFORMATION CONTACT: Mr. Robert S. Kovac, Managing Director, Directorate of Defense Trade Controls, Bureau of Political-Military Affairs, Department of State (202) 663-2861.

SUPPLEMENTARY INFORMATION: Section 36(f) of the Arms Export Control Act mandates that notifications to the Congress pursuant to sections 36(c) and 36(d) must be published in the Federal Register when they are transmitted to Congress or as soon thereafter as practicable.

June 10, 2010 (Transmittal No. 09-069)

Hon. Nancy Pelosi, Speaker of the House of Representatives

Dear Madam Speaker: Pursuant to Section 36(c) of the Arms Export Control Act, I am transmitting, herewith, certification of a proposed technical assistance agreement for the export of technical data, defense services and defense articles in the amount of $50,000,000 or more.

The transaction contained in the attached certification involves the export of defense articles and defense services for the delivery, integration, and maintenance of the RF 5800V-HH VHF Handheld, RF-5800V-MP VHF Manpack, RF-5800H-MP HF Manpack and the RF-7800S Secure Personnel Radio for end use by the Sudan People's Liberation Army Special Operations Command.

The United States government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 7, 2010 (Transmittal No. 09-117)

Hon. Nancy Pelosi, Speaker of the House of Representatives

Dear Madam Speaker: Pursuant to Sections 36(c) and 36(d) of the Arms Export Control Act, I am transmitting, herewith, certification of a proposed amendment to a manufacturing license agreement for the manufacture of significant military equipment abroad and the export of firearms in the amount of $1,000,000 or more.

The transaction described in the attached certification involves the transfer of defense articles, to include technical data, and defense services to King Abdullah II Design and Development Bureau (KADDB) in Jordan for the assembly and distribution of JAWS (Jordan Arms and Weapons Systems) Viper multi-caliber semi-automatic handguns to various countries.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma

Assistant Secretary, Legislative Affairs

June 10, 2010 (Transmittal No. 09-135)

Hon. Nancy Pelosi, Speaker of the House of Representatives

Dear Madam Speaker: Pursuant to Section 36(c) of the Arms Export Control Act, I am transmitting, herewith, certification of a proposed amendment to a Technical Assistance Agreement to include the export of defense articles, to include technical data, and defense services in the amount of $50,000,000 or more.

The transaction contained in the attached certification involves the export of defense articles and defense services for the upgrade of the Iraqi Ministry of Defense communication systems for end-use by the Iraqi Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

July 26, 2010 (Transmittal No. 10-008)

Hon. Nancy Pelosi, Speaker of the House of Representatives

Dear Madam Speaker: Pursuant to Section 36(c) of the Arms Export Control Act, I am transmitting, herewith, certification of a proposed amendment to a technical assistance agreement for the export of defense articles, to include technical data, and defense services in the amount of $50,000,000 or more.

The transaction contained in the attached certification involves the export of defense articles, to include technical data, and defense services to the United Arab Emirates to support the sale of F-16 Block 60 Fighter Aircraft.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-037)

Hon. Nancy Pelosi, Speaker of the House of Representatives

Dear Madam Speaker:

Dear Madam Speaker: Pursuant to Section 36(c) of the Arms Export Control Act, I am transmitting, herewith, certification of a proposed amendment to a technical assistance agreement for the export of defense articles, to include technical data, and defense services in the amount of $50,000,000 or more.

The transaction contained in the attached certification involves the export of defense articles, to include technical data, and defense services for the upgrade of Swedish Low Coverage Radars. The Swedish Air Force is the end user.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

July 2, 2010 (Transmittal No. 10-038)

Hon. Nancy Pelosi, Speaker of the House of Representatives

Dear Madam Speaker: Pursuant to Section 36(c) of the Arms Export Control Act, I am transmitting, herewith, certification of a proposed amendment to a technical assistance agreement for the export of defense articles, including technical data, and defense services in the amount of $50,000,000 or more.

The transaction contained in the attached certification involves the export of defense articles, to include technical data, and defense services to support the LITENING Advanced Targeting Pod program for The Netherlands.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

July 2, 2010 (Transmittal No. 10-044)

Hon. Nancy Pelosi, Speaker of the House of Representatives

Dear Madam Speaker: Pursuant to Section 36(c) and 36(d) of the Arms Export Control Act, I am transmitting, herewith, certification of a proposed manufacturing license agreement for the manufacture of significant military equipment abroad and the export of defense articles, to include technical data, and defense services in the amount of $100,000,000 or more.

The transaction contained in the attached certification involves the transfer of defense articles, to include technical data, and defense services to Turkey to support the manufacture and assembly of Day Night Thermal Sensors, Infrared Laser Detecting-Ranging Tracking Sets (AN/AAS-44T) and associated components common to both systems.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-049)

Hon. Nancy Pelosi, Speaker of the House of Representatives

Dear Madam Speaker: Pursuant to Section 36(d) of the Arms Export Control Act, I am transmitting, herewith, certification of a proposed manufacture license agreement for the manufacture of significant military equipment abroad.

The transaction contained in the attached certification involves the export of defense articles, including technical data, and defense services for the manufacture of the DF-301E Direction Finding Equipment in France.

The United States government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-055)

Hon. Nancy Pelosi, Speaker of the House of Representatives

Dear Madam Speaker: Pursuant to Section 36(c) of the Arms Export Control Act, I am transmitting, herewith, certification of a proposed manufacturing license agreement to include the export of defense articles, including technical data, and defense services in the amount of $100,000,000 or more.

The transaction contained in the attached certification involves the export of defense articles, including technical data, and defense services to Turkey and Poland for the manufacture of machined parts, subassemblies and components for all models of the H-60/S-70, H-53, and H-92 families of helicopters for end use by Turkey, Poland and the United States. No significant military equipment (SME) is authorized for export or for manufacturing under this authorization.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-059)

Hon. Nancy Pelosi, Speaker of the House of Representatives

Dear Madam Speaker: Pursuant to Section 36(c) and 36(d) of the Arms Export Control Act, I am transmitting, herewith, certification of a proposed manufacture licensing agreement for the manufacture of significant military equipment abroad and the export of defense articles, to include technical data, and defense services in the amount of $50,000,000 or more.

The transaction contained in the attached certification involves the transfer of defense articles, to include technical data, and defense services to Japan and Israel to support the manufacture and assembly of Helmet Mounted Displays for the Fighter Aircraft of the Armed Forces of Japan.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-061)

Hon. Nancy Pelosi, Speaker of the House of Representatives

Dear Madam Speaker: Pursuant to Section 36(c) of the Arms Export Control Act, I am transmitting, herewith, certification of a proposed technical assistance agreement to include the export of defense articles, to include technical data, and defense services in the amount of $50,000,000 or more.

The transaction contained in the attached certification involves the transfer of defense articles, to include technical data, and defense services to support the C3 Commercial Communication Satellite Programs of Brazil.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-062)

Hon. Nancy Pelosi, Speaker of the House of Representatives

Dear Madam Speaker: Pursuant to Section 36(c) of the Arms Export Control Act, I am transmitting, herewith, certification of a proposed technical assistance agreement to include the export of technical data and defense services in the amount of $100,000,000 or more.

The transaction contained in the attached certification involves the transfer of technical data and defense services to support the 737 Airborne Early Warning and Control (AEW&C) Wedgetail System previously delivered to the Commonwealth of Australia.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 25, 2010 (Transmittal No. 10-065)

Hon. Nancy Pelosi, Speaker of the House of Representatives

Dear Madam Speaker: Pursuant to Section 36(c) of the Arms Export Control Act, I am transmitting, herewith, certification of a proposed manufacturing license agreement to include the export of defense articles, including technical data, and defense services in the amount of $50,000,000 or more.

The transaction contained in the attached certification involves the export of defense articles, including technical data, and defense services to Bermuda, Hong Kong, Cayman Islands, Malaysia and the Philippines for the sale and support of the Asia Broadcast Satellite 2 (ABS 2) Commercial Communications Satellite Program. No significant military equipment (SME) is authorized for export or for manufacturing under this authorization.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

June 22, 2010 (Transmittal No. 10-066)

Hon. Nancy Pelosi, Speaker of the House of Representatives

Dear Madam Speaker: Pursuant to Section 36(c) of the Arms Export Control Act, I am transmitting, herewith, certification of a proposed manufacturing license agreement to include the export of defense articles, including technical data, and defense services in the amount of $100,000,000 or more.

The transaction contained in the attached certification involves the export of defense articles, including technical data, and defense services to Sweden and Norway for the manufacture of F414-GE-400 engine components in support of U.S. Navy commercial and FMS contracts. No significant military equipment (SME) is authorized for export or for manufacturing under this authorization.

The United States Government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

July 12, 2010 (Transmittal No. 10-070)

Hon. Nancy Pelosi, Speaker of the House of Representatives

Dear Madam Speaker: Pursuant to Section 36(c) of the Arms Export Control Act, I am transmitting, herewith, certification of a proposed technical assistance agreement to include the export of major defense equipment abroad and the export of defense articles, including technical data, and defense services in the amount of $25,000,000 or more.

The transaction contained in the attached certification involves the export of defense articles, including technical data, and defense services to the United Kingdom in support of the sale of Hellfire II missiles.

The United States government is prepared to license the export of these items having taken into account political, military, economic, human rights, and arms control considerations.

More detailed information is contained in the formal certification which, though unclassified, contains business information submitted to the Department of State by the applicant, publication of which could cause competitive harm to the United States firm concerned.

Sincerely,

Richard R. Verma

Assistant Secretary, Legislative Affairs

July 1, 2010 (Transmittal No. 10-071)

Hon. Nancy Pelosi, Speaker of the House of Representatives

Dear Madam Speaker: Pursuant to Section 36(c) of the Arms Export Control Act, I am transmitting, herewith, certification of a proposed amendment to a technical assistance agreement for the export of defense articles, including technical data, and defense services in the amount of $50,000,000 or more.

The transaction contained in the attached certification involves the transfer of defense articles, to include technical data, and defense services to support the Proton launch of the Intelsat 22 Commercial Communication Satellite from the Baikonur Cosmodrome in Kazakhstan.

The United States Government is prepared to license the export of these items having taken into account political, military, economic, human rights and arms control considerations.

More detailed information is contained in the formal certification which, though unclassified, contains business information submitted to the Department of State by the applicant, publication of which could cause competitive harm to the United States firm concerned.

Sincerely,

Matthew Rooney

Principal Deputy Assistant Secretary, Legislative Affairs

Dated: July 29, 2010.
Robert S. Kovac,
Managing Director, Directorate of Defense Trade Controls, Department of State.

[FR Doc. 2010-20313 Filed 8-16-10; 8:45 am]

BILLING CODE 4710-25-P